DEPARTMENT OF LABOR

Employment and Training Administration

[TA-W-58,831]

Water Pik, Inc. Personal Healthcare Products Including Former On-Site Leased Workers of AppleOne Currently Employed With Employment Solutions, Loveland, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 24, 2006, applicable to workers of Water Pik, Inc., Personal Healthcare Products, including on-site leased workers of AppleOne, Loveland, Colorado. The notice was published in the Federal Register on April 12, 2006 (71 FR 18772).

At the request of the State agency, the Department reviewed the certification for workers of the subject firm. The workers are engaged in the production of water treatment filtration and shower heads.

New information shows that in August 2006, the leased workers of AppleOne, employed on-site at the Loveland, Colorado location of Water Pik, Inc., Personal Healthcare Products, became employees of Employment Solutions due to a change in contracting firms.

Accordingly, the Department is amending this certification to properly reflect this matter.

The intent of the Department's certification is to include all workers employed at Water Pik, Inc., Personal Healthcare Products, Loveland, Colorado who were adversely affected by a shift in production to China.

The amended notice applicable to TA-W-58,831 is hereby issued as follows:

All workers of Water Pik, Inc., Personal Healthcare Products, including former on-site leased workers of AppleOne, currently employed with Employment Solutions, Loveland, Colorado, who became totally or partially separated from employment on or after February 10, 2005, through March 24, 2008, are eligible to apply for adjustment assistance under Section 223 of the Trade Act of 1974, and are also eligible to apply for alternative trade adjustment assistance under Section 246 of the Trade Act of 1974.

Dated: November 30, 2006.
Elliott S. Kushner,
Certifying Officer, Division of Trade Adjustment Assistance.

[FR Doc. E6-20833 Filed 12-7-06; 8:45 am]

BILLING CODE 4510-30-P